DEPARTMENT OF TRANSPORTATION

Federal Aviation Administration

14 CFR Part 39

[Docket No. FAA-2004-18593; Directorate Identifier 2004-NM-21-AD]

RIN 2120-AA64

Airworthiness Directives; Airbus Model A300 B2, A300 B4, A300 B4-600, and A300 B4-600R Series Airplanes; and Model A300 C4-605R Variant F and A300 F4-605R Airplanes

AGENCY: Federal Aviation Administration (FAA), DOT.

ACTION: Notice of proposed rulemaking (NPRM).

SUMMARY: The FAA proposes to supersede an existing airworthiness directive (AD) for all Airbus Model A300 B4-601, A300 B4-603, A300 B4-620, A300 B4-605R, A300 B4-622R, and A300 F4-605R airplanes. That AD currently requires repetitive inspections for cracking in the area surrounding certain fuselage attachment holes, installation of new fasteners for certain airplanes, and certain follow-on corrective actions if necessary. This proposed AD would require modifying certain fuselage frames, which would terminate certain repetitive inspections. This proposed AD would also add airplanes to the applicability. This proposed AD is prompted by the development of a modification intended to prevent cracking of the center section of the fuselage, which could result in a ruptured frame foot and reduced structural integrity of the airplane.

DATES: We must receive comments on this proposed AD by August 16, 2004.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

For the service information identified in this proposed AD, contact Airbus, 1 Rond Point Maurice Bellonte, 31707 Blagnac Cedex, France.

You can examine the contents of this AD docket on the Internet at http://dms.dot.gov, or at the Docket Management Facility, U.S. Department of Transportation, 400 Seventh Street, SW., room PL-401, on the plaza level of the Nassif Building, Washington, DC.

FOR FURTHER INFORMATION CONTACT: Dan Rodina, Aerospace Engineer, International Branch, ANM-116, Transport Airplane Directorate, 1601 Lind Avenue, SW., Renton, Washington 98055-4056; telephone (425) 227-2125; fax (425) 227-1149.

SUPPLEMENTARY INFORMATION:

Docket Management System

We have implemented new procedures for maintaining AD dockets electronically. As of May 17, 2004, new AD actions are posted on DMS and assigned a docket number. We track each AD action and assign an additional identifier, which identifies the directorate issuing the action. The DMS AD docket number is in the form “Docket No. FAA-2004-99999.” The FAA directorate identifier is in the form “Directorate Identifier 2004-NM-999-AD.” Each DMS AD docket also lists the directorate identifier (“Old Docket Number”) as a cross-reference for searching purposes.

Comments Invited

We invite you to submit any written relevant data, views, or arguments regarding this proposal. Send your comments to an address listed under ADDRESSES. Include “Docket No. FAA-2004-18593; Directorate Identifier 2004-NM-21-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket web site, anyone can find and read the comments in any of our dockets, including the name of the individual who sent the comment (or signed the comment on behalf of an association, business, labor union, etc.). You can review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Dockets

The AD docket contains the proposed AD, comments, and any final disposition. You can examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On March 22, 2001, we issued AD 2001-06-10, amendment 39-12157 (66 FR 17490, April 2, 2001), for all Airbus Model A300 B4-601, A300 B4-603, A300 B4-620, A300 B4-605R, A300 B4-622R, and A300 F4-605R airplanes. That AD requires repetitive high-frequency eddy-current (HFEC) or rototest inspections to detect cracking in the area surrounding the frame feet attachment holes between fuselage frame (FR) 41 and FR46, installation of new fasteners for certain airplanes, and follow-on corrective actions if necessary. That AD was prompted by issuance of mandatory continuing airworthiness information by the airworthiness authority for France. We issued AD 2001-06-10 to prevent cracking of the center section of the fuselage, which could result in a ruptured frame foot and reduced structural integrity of the airplane.

Related AD

AD 96-13-11, amendment 39-9679 (61 FR 35122, July 5, 1996), requires revising the supplemental structural inspection program for all Airbus Model A300 B2 and A300 B4 series airplanes.

Actions Since Existing AD Was Issued

Since we issued AD 96-13-11 and AD 2001-06-10, the Direction Générale de l'Aviation Civile (DGAC), which is the airworthiness authority for France, advises that the unsafe condition identified in AD 2001-06-10 may also exist on all Airbus Model A300 B2 and A300 B4 series airplanes. In addition, Airbus has developed a new modification that will improve the life of the frame feet attachments.

Relevant Service Information

Airbus has issued Service Bulletins A300-53-0271, Revision 03 (for Model A300 B2 and B4 series airplanes), and A300-53-6125, Revision 01 (for affected Model A300-600 series airplanes), both dated June 13, 2003. The service bulletins describe procedures for modifying certain fuselage frames (FRs). The inspection thresholds range from 6,800 to 56,200 flight cycles, or 14,100 to 62,400 flight hours. The modification involves the following actions:

• Cold expanding fastener holes of the frames on the center box upper fuselage bent sections, between FR41 and FR54 for Model A300 B2 and A300 B4 series airplanes, and between FR41 and FR46 for the affected Model A300-600 series airplanes;

• Inspecting for cracks using rotating-probe and eddy-current methods;

• Repairing certain crack conditions; and

• Flap peening certain frames or reaming certain holes.

The service bulletins recommend contacting Airbus for repair instructions for:

• Holes that exceed certain limits;

• Holes that were previously repaired by installing bushes;

• Cracks found during the rotating probe inspection on Model A300 series airplanes; and

• Cracks found during the rotating probe inspection that exceed certain limits on the affected Model A300-600 series airplanes.

For the affected Model A300-600 series airplanes, the modification eliminates the need for the repetitive inspections specified in Airbus Service Bulletin A300-53-6122 (and required by AD 2001-06-10).

For Model A300 B2 and A300 B4 series airplanes, the modification eliminates the need to repeat the inspection of the frame feet holes for frames 41 to 46, as specified in Airbus Service Bulletin A300-53-0345; and frames 48 to 54, as specified in Airbus Service Bulletin A300-53-238. However, Service Bulletin A300-53-0271 recommends that operators continue to repeat the inspection of the frame foot angle radius (as specified in Service Bulletin A300-53-238). Those inspections are required by AD 96-13-11.

We have determined that accomplishment of the actions specified in Service Bulletins A300-53-6125 and A300-53-0271 will adequately address the unsafe condition. The DGAC mandated the service bulletins and issued French airworthiness directives F-2004-001 and F-2004-002, both dated January 7, 2004, to ensure the continued airworthiness of these airplanes in France.

FAA's Determination and Requirements of the Proposed AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

Therefore, we are proposing this AD, which would supersede AD 2001-06-10. For Model A300-600 series airplanes, this proposed AD would continue to require repetitive high-frequency eddy-current or rototest inspections for cracking in the area surrounding the frame feet attachment holes between FR41 and FR46, installation of new fasteners for certain airplanes, and certain investigative/corrective actions if necessary. This proposed AD would require modification of certain fuselage frames, which would terminate certain repetitive inspections, and add airplanes to the applicability. The proposed AD would require using the service information described previously to perform these actions, except as discussed under “Differences Between the Proposed AD and the Service Information.”

Difference Between the Proposed AD and the Service Information

Service Bulletins A300-53-6125 and A300-53-0271 specify that operators may contact the manufacturer for certain instructions associated with the modification. The service bulletins specify this for holes that have been previously repaired in a certain way. However, this proposed AD would require operators to contact either the FAA or the DGAC (or its delegated agent) for an approved method. In light of the type of actions that would be required to address the unsafe condition, and consistent with existing bilateral airworthiness agreements, we have determined that, for this proposed AD, a modification approved by either the FAA or the DGAC would be acceptable for compliance with this proposed AD.

Additional Changes to Existing AD

This proposed AD would retain the requirements of AD 2001-06-10. Since AD 2001-06-10 was issued, the AD format has been revised and certain paragraphs have been rearranged. As a result, the corresponding paragraph identifiers for the retained requirements have changed in this proposed AD, as listed in the following table.

Reidentified Paragraphs
Paragraph identifier in AD 2001-06-10 | New paragraph identifier in this proposed AD
(a) | (f)
(b) | (g)
(c) | (h)

Revised Labor Rate

We have reviewed the figures we have used over the past several years to calculate AD costs to operators. To account for various inflationary costs in the airline industry, we find it necessary to increase the labor rate used in these calculations from $60 per work hour to $65 per work hour. The cost impact information, below, reflects this increase in the specified hourly labor rate.

Costs of Compliance

The following table provides the estimated costs for U.S. operators to comply with this proposed AD:

Estimated Costs
Action | Model | Work hours | Labor rate per hour | Parts cost | Cost per airplane | Number of U.S.- registered airplanes | Fleet cost
Inspection | A300-600 | 6 | $65 | $0 | $390, per inspection | 106 | $41,340, per inspection.
Modification | A300 | 90 | 65 | 2,000 | 7,850 | 24 | 188,400.
Modification | A300-600 | 56 | 65 | 4,000 | 7,640 | 106 | 809,840.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12157 (66 FR 17490, April 2, 2001) and adding the following new airworthiness directive (AD):

Airbus: Docket No. FAA-2004-18593; Directorate Identifier 2004-NM-21-AD.

Comments Due Date

(a) The Federal Aviation Administration (FAA) must receive comments on this airworthiness directive (AD) action by August 16, 2004.

Affected ADs

(b) This AD supersedes AD 2001-06-10, amendment 39-12157. Paragraph (i) of this AD terminates certain requirements of AD 96-13-11, amendment 39-9679.

Applicability

(c) This AD applies to all Airbus Model A300 B2, A300 B4, A300 B4-600, and A300 B4-600R series airplanes; and all Airbus Model A300 C4-605R Variant F and A300 F4-605R airplanes; certificated in any category; except those airplanes modified by Airbus Modification 12168.

Unsafe Condition

(d) This AD was prompted by the development of a modification intended to prevent cracking of the center section of the fuselage, which could result in a ruptured frame foot and reduced structural integrity of the airplane.

Compliance

(e) You are responsible for having the actions required by this AD performed within the compliance times specified, unless the actions have already been done.

Restatement of Certain Requirements of AD 2001-06-10

Inspections

(f) For Model A300 B4-600 and A300 B4-600R series airplanes, and Model A300 C4-605R Variant F and A300 F4-605R airplanes: Perform a high-frequency eddy-current or rototest inspection to detect cracking in the area surrounding the frame feet attachment holes between fuselage frames (FR) 41 and FR46 from stringers 24 to 28, left- and right-hand sides, in accordance with Airbus Service Bulletin A300-53-6122, dated February 9, 2000, at the time specified in paragraph (f)(1) or (f)(2), as applicable.

(1) For airplanes on which Task 53-15-54 in Maintenance Review Board Document (MRBD), Revision 3, dated April 1998, has not been accomplished as of May 7, 2001 (the effective date of AD 2001-06-10): Perform the inspection at the later of the times specified in paragraphs (f)(1)(i) and (f)(1)(ii) of this AD.

(i) Prior to the accumulation of the total flight-cycle or flight-hour threshold, whichever occurs first, specified in paragraph 1.E. (“Compliance”) of the service bulletin; or

(ii) Within the applicable grace period specified in paragraph 1.E. (“Compliance”) of the service bulletin.

(2) For airplanes on which Task 53-15-54 in the MRBD, Revision 3, dated April 1998, has been accomplished as of May 7, 2001: Perform the next repetitive inspection at the later of the times specified in paragraphs (f)(2)(i) and (f)(2)(ii) of this AD.

(i) Within the flight-cycle or flight-hour interval, whichever occurs first, specified in paragraph 1.E. (“Compliance”) of the service bulletin, following the latest inspection accomplished in accordance with the MRBD; or

(ii) Within the grace period specified in paragraph 1.E. (“Compliance”) of the service bulletin.

(g) For airplanes on which no cracking is detected during the inspection required by paragraph (f) of this AD, prior to further flight, install new fasteners as applicable, in accordance with Airbus Service Bulletin A300-53-6122, dated February 9, 2000; and repeat the inspection required by paragraph (f) of this AD thereafter at intervals not to exceed the applicable intervals specified in paragraph 1.E. (“Compliance”) of the service bulletin, until the actions required by paragraph (i) of this AD have been done.

Corrective Actions

(h) For airplanes on which cracking is detected during any inspection required by paragraph (f) of this AD: Prior to further flight, except as required by paragraph (j) of this AD, accomplish corrective actions (e.g., performing rotating probe inspections, reaming out cracks, cold working fastener holes, and installing oversized fasteners) in accordance with Airbus Service Bulletin A300-53-6122, dated February 9, 2000. Repeat the inspection required by paragraph (f) of this AD thereafter at intervals not to exceed the applicable intervals specified in paragraph 1.E. (“Compliance”) of the service bulletin, until the actions required by paragraph (i) of this AD have been done.

New Requirements of This AD

Modification: All Airplanes

(i) For all airplanes: Within the compliance times specified in paragraph 1.E. of the applicable service bulletin listed in Table 1 of this AD, modify the fuselage frames in accordance with the Accomplishment Instructions of the applicable service bulletin. For airplanes that have exceeded the specified threshold, this AD requires compliance within the earlier of the flight-cycle and flight-hour grace periods specified in the service bulletin.

Table 1.—Service Information
Airplane model | Airbus service bulletin | Required revision level | Revision level(s) also acceptable for compliance if done before the effective date of this AD
A300 B2 and and A300 B4 series airplanes | A300-53-0271 | Revision 03, dated June 13, 2003 | Original, dated September 10, 1991. Revision 01, dated February 16, 1993. Revision 02, dated July 13, 2000.
A300 B4-600 and A300 B4-600R series airplanes, and A300 C4-605 Variant F and A300 F4-605R airplanes | A300-53-6125 | Revision 01, dated June 13, 2003 | Original, dated November 8, 2000.

(1) For the affected Model A300 B4-600 series airplanes: Accomplishment of the modification terminates the requirements of this AD.

(2) For Model A300 B2 and A300 B4 series airplanes: Accomplishment of the modification terminates certain repetitive inspections required by AD 96-13-11, i.e., inspections of the frame feet holes for frames 41 to 46 (as specified in Airbus Service Bulletin A300-53-0345) and frames 48 to 54 (as specified in Airbus Service Bulletin A300-53-238). However, the repetitive inspections of the frame foot angle radius (as specified in Service Bulletin A300-53-238), which are required by AD 96-13-11, must continue.

Exceptions to Service Bulletin Procedures

(j) During any inspection required by this AD, if the applicable service bulletin specifies to contact the manufacturer for appropriate instructions: Before further flight, perform applicable corrective action in accordance with a method approved by the Manager, International Branch, ANM-116, Transport Airplane Directorate, FAA; or the Direction Générale de l'Aviation Civile (DGAC) (or its delegated agent).

Alternative Methods of Compliance

(k)(1) The Manager, International Branch, ANM-116, has the authority to approve alternative methods of compliance (AMOCs) for this AD, if requested in accordance with the procedures found in 14 CFR 39.19.

(2) AMOCs approved previously in accordance with AD 2001-06-10, amendment 39-12157, are approved as AMOCs with the applicable requirements of this AD.

Related Information

(l) French airworthiness directives F-2004-001 and F-2004-02, both dated January 7, 2004, also address the subject of this AD.

Issued in Renton, Washington, on July 6, 2004.
Kevin M. Mullin,
Acting Manager, Transport Airplane Directorate, Aircraft Certification Service.

[FR Doc. 04-16174 Filed 7-15-04; 8:45 am]

BILLING CODE 4910-13-P